Title 3—

The President

Proclamation 7461 of September 11, 2001

Honoring the Victims of the Incidents on Tuesday, September 11, 2001

By the President of the United States of America

A Proclamation

As a mark of respect for those killed by the heinous acts of violence perpetrated by faceless cowards upon the people and the freedom of the United States on Tuesday, September 11, 2001, I hereby order, by the authority vested in me as President of the United States of America by the Constitution and the laws of the United States of America, that the flag of the United States shall be flown at half-staff at the White House and upon all public buildings and grounds, at all military posts and naval stations, and on all naval vessels of the Federal Government in the District of Columbia and throughout the United States and its Territories and possessions until sunset, Sunday, September 16, 2001. I also direct that the flag shall be flown at half-staff for the same length of time at all United States embassies, legations, consular offices, and other facilities abroad, including all military facilities and naval vessels and stations.

IN WITNESS WHEREOF, I have hereunto set my hand this eleventh day of September, in the year of our Lord two thousand one, and of the Independence of the United States of America the two hundred and twenty-sixth.

B

[FR Doc. 01-23193

Filed 9-13-01; 8:45 am]

Billing code 3195-01-P